DEPARTMENT OF THE INTERIOR

Notice of Intent To Establish and Call for Nominations for the North Slope Science Initiative Science Technical Group

AGENCY: Bureau of Land Management (BLM), Interior.

SUMMARY: This notice announces the establishment of the North Slope Science Initiative Science Technical Group by the Secretary of the Interior (Secretary) and calls for nominations to serve on the Science Technical Group in accordance with the provisions of the Federal Advisory Committee Act (FACA) of 1972, 5 U.S.C. Appendix. A copy of the Science Technical Group charter will be filed with the appropriate committees of Congress and the Library of Congress in accordance with Section 9(c) of FACA.

DATES: Submit a completed nomination form and nomination letters to the address listed below no later than October 27, 2005.

FOR FURTHER INFORMATION CONTACT: Ken Taylor, Executive Director, North Slope Science Initiative (910), Bureau of Land Management, 222 W. Seventh Avenue, #13, Anchorage, Alaska 99513, telephone (907) 271-3131.

SUPPLEMENTARY INFORMATION: The purpose of the Science Technical Group is to assist in identifying and prioritizing inventory, monitoring and research needs, and providing other scientific advice as requested by the Oversight Group of the North Slope Science Initiative. The Oversight Group consists of the Alaska Regional Directors of the Fish and Wildlife Service, Minerals Management Service, National Park Service, Geological Survey, National Marine Fisheries Service, State Director of the Bureau of Land Management, Alaska Commissioners of the Department of Natural Resources and the Department of Fish and Game, the Mayor of the North Slope Borough, and the President of the Arctic Slope Regional Corporation.

The duties of the Science Group are solely advisory to the Oversight Group. Duties will include the following:

a. Advise the Oversight Group on science planning and relevant research and monitoring projects;

b. Advise the Oversight Group on scientific information relevant to the Oversight Group's mission:

c. Review selected reports to advise the Oversight Group on their content and relevance;

d. Review ongoing scientific programs of North Slope Science Initiative (NSSI)-member organizations on the North Slope at the request of the member organizations to promote compatibility in methodologies and compilation of data;

e. Advise the Oversight Group on how to ensure that scientific products generated through NSSI activities are of the highest technical quality;

f. Periodically review the North Slope Science Plan and provide recommendations for changes to the Oversight Group;

g. Provide recommendations for proposed NSSI funded inventory, monitoring and research activities to the Oversight Group;

h. Provide other scientific advice as requested by the Oversight Group; and

i. Coordinate with groups and subgroups appointed or requested by the Oversight Group to provide science advice, as needed.

The Science Technical Group will consist of up to 15 members. The Executive Director for the North Slope Science Initiative shall serve as the Designated Federal Officer for the Science Technical Group. Specifically, the membership will consist of professionals typically with advanced degrees and a minimum of 5 years of work experience in their field in Alaska, preferably in the North Slope region. Professionals will be selected from among but not limited to the following disciplines: expertise in North Slope traditional and local knowledge, landscape ecology, petroleum engineering, civil engineering, petroleum geology, botany, hydrology, limnology, habitat biology, wildlife biology, marine ecology, biometrics, sociology, cultural anthropology, economics, ornithology, oceanography, civil engineering, fisheries biology, and climatology. Any individual or organization may nominate one or more persons to serve on the Science Technical Group. Members will be appointed for 3-year terms, on a staggered term basis, with one-third of the Science Group members subject to appointment, or reappointment, each year. In order to establish these staggered terms all appointments begin on the effective date of this charter then one-third of the members' terms will terminate in 1-year and one-third of the members' terms will terminate in 2 years. The terms of the remaining one-third of the membership will terminate in 3 years. Members will be appointed, or reappointed, each year thereafter for 3-year terms.

Individuals may nominate themselves to the Science Technical Group. You may obtain nomination forms from the Executive Director, North Slope Science Initiative (see address above). To make a nomination, you must submit a completed nomination form with a letter of reference which speaks to the nominee's qualifications to serve on the Science Technical Group. The professional discipline the nominee would like to represent should be identified in the letter of nomination and in the nomination form. Nominees may be professionals from agencies, academia, businesses, Alaska Native organizations, or the public-at-large. Nominees selected to serve on the Science Technical Group will serve only in their professional capacity and will not serve to represent any group, agency or entity with whom they may be affiliated.

The Executive Director shall collect the nomination forms and letters of reference and distribute them to the Oversight Group for the NSSI. The Oversight Group will submit their recommendations through the Bureau of Land Management to the Secretary of the Interior who has responsibility for making the appointments.

Members on the Science Technical Group will serve without monetary compensation. Members will be reimbursed for travel and per diem expenses at current rates for Federal Government employees.

Certification

I hereby certify that the establishment of the Science Technical Group for the North Slope Science Initiative is necessary and in the public interest in connection with the Secretary of the Interior's responsibilities to manage the lands, resources and facilities of the Department of the Interior.

Date Signed: September 1, 2005.
Gale A. Norton,
Secretary of the Interior.

[FR Doc. 05-18031 Filed 9-9-05; 8:45 am]

BILLING CODE 4310-JA-P